DEPARTMENT OF THE TREASURY

Agency Information Collection Activities; Proposed Collection; Comment Request; Coronavirus Economic Relief for Transportation Services.

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on these requests.

DATES: Comments must be received on or before January 24, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Title: Coronavirus Economic Relief for Transportation Services.

OMB Control Number: 1505-0273.

Type of Review: Extension of a currently approved collection.

Description: On December 27, 2020, the President signed the Consolidated Appropriations Act, 2021 (the “Act”). Division N, Title IV, Subtitle B, Section 421 of the Act provides $2 billion for the U.S. Department of the Treasury (“Treasury”) to provide grants to eligible providers of transportation services (“Recipients”) under the Coronavirus Economic Relief for Transportation Services (“CERTS”) Program. Recipients include motorcoach companies, school bus companies, passenger vessel companies, and pilotage companies. Under Section 421 of the Act, Recipients must demonstrate significant revenue losses as a result of COVID-19, and must use grant funds for payroll costs and for other eligible operating expenses.

Forms: Compliance Reporting Forms.

Affected Public: Private Sector.

Estimated Number of Respondents: 1,460.

Frequency of Response: Once, Quarterly.

Estimated Total Number of Annual Responses: 5,840.

Estimated Time per Response: 1.5 hours.

Estimated Total Annual Burden Hours: 8,760.

Authority: 44 U.S.C. 3501 et seq.

Dated: December 20, 2021.
Molly Stasko,
Treasury PRA Clearance Officer.

[FR Doc. 2021-27869 Filed 12-22-21; 8:45 am]

BILLING CODE 4810-AK-P